DEPARTMENT OF TRANSPORTATION

Federal Aviation Administration

14 CFR Part 39

[Docket No. FAA-2009-0350; Directorate Identifier 2009-SW-07-AD; Amendment 39-15885; AD 2009-07-52]

RIN 2120-AA64

Airworthiness Directives; Bell Helicopter Textron Canada Limited Model 206A Series, 206B Series, 206L Series, 407, and 427 Helicopters

AGENCY: Federal Aviation Administration, DOT.

ACTION: Final rule; request for comments.

SUMMARY: This document publishes in the Federal Register an amendment adopting Airworthiness Directive (AD) 2009-07-52 and supersedes Emergency AD 2009-07-51, issued March 17, 2009, which was sent previously to all known U.S. owners and operators of Bell Helicopter Textron Canada Limited (Bell) Model 206A series, 206B series, 206L series, 407, and 427 helicopters by individual letters. This AD requires, before further flight, inspecting each cyclic control lever assembly (lever assembly) that has less than 50 hours time-in-service (TIS) to determine if it is correctly installed and properly staked in the lever assembly. This amendment is prompted by a Transport Canada AD report of a bearing incorrectly installed in the copilot lever assembly. The actions specified by this AD are intended to prevent failure of a bearing, failure of the lever assembly, and subsequent loss of control of the helicopter.

DATES: Effective May 1, 2009, to all persons except those persons to whom it was made immediately effective by Emergency AD 2009-07-52, issued on March 19, 2009, which contained the requirements of this amendment.

Comments for inclusion in the Rules Docket must be received on or before June 15, 2009.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Bell Helicopter Textron, Inc., P.O. Box 482, Fort Worth, TX 76101, telephone (817) 280-3391, fax (817) 280-6466, or at http://www.bellcustomer.com/files/.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION: On March 17, 2009, we issued Emergency AD 2009-07-51. The Emergency AD required, before further flight, inspecting each lever assembly to determine if it was correctly installed and properly staked in the lever assembly. Replacing any bearing that was incorrectly installed or improperly staked in the lever assembly was also required before further flight. Emergency AD 2009-07-51 was prompted by a Transport Canada AD report of a bearing incorrectly installed in the copilot lever assembly. Investigation revealed that, although the inspection witness marks were applied on the bearing, it had not been properly staked during manufacture of the lever assembly. That condition, if not detected, could result in failure of a bearing, failure of a lever assembly, and subsequent loss of control of the helicopter.

Emergency AD 2009-07-51 applied to all Bell Model 206A series, 206B series, 206L series, 407, and 427 helicopters with a lever assembly, part number (P/N) 206-001-401-111, 206-001-400-115, 206-001-400-111, 407-001-320-105 or 407-001-320-109, installed. After we issued Emergency AD 2009-07-51, we determined that we should have limited the applicability of Emergency AD 2009-07-51 to lever assemblies with less than 50 hours. Therefore, we issued superseding Emergency AD 2009-07-52 to retain all of the requirements of Emergency AD 2009-07-51 but to reduce the applicability to only those helicopters with lever assemblies that have less than 50 hours TIS that may be affected by the unsafe condition.

We have reviewed Bell Alert Service Bulletin (ASB) No. 206-09-121, No. 206L-09-155, No. 407-09-85, and No. 427-09-23, all dated March 10, 2009. The ASBs specify that a certain bearing was installed incorrectly on the copilot lever assembly. The ASBs specify, before further flight, inspecting certain serial-numbered Bell helicopters for correct installation of the bearing.

Transport Canada, the airworthiness authority for Canada, notified us that an unsafe condition may exist on certain helicopters with less than 50 flight hours or with a lever assembly installed within the last 50 flight hours. Transport Canada advises that “it is possible that an incorrectly installed bearing could be found in any helicopter with a cyclic control lever assembly recently installed.” Failure of the lever assembly could lead to loss of control of the helicopter. Transport Canada classified the ASBs as mandatory and issued AD No. CF-2009-10, dated March 12, 2009, to ensure the continued airworthiness of these helicopters in Canada.

These helicopter models are manufactured in Canada and are type certificated for operation in the United States under the provisions of 14 CFR 21.29 and the applicable bilateral agreement. Pursuant to the applicable bilateral agreement, Transport Canada has kept us informed of the situation described above. We have examined the findings of Transport Canada, reviewed all available information, and determined that AD action is necessary for products of these type designs that are certificated for operation in the United States.

Since the unsafe condition described is likely to exist or develop on other Bell Model 206A series, 206B series, 206L series, 407, and 427 helicopters of the same type design, we issued Emergency AD 2009-07-52 to prevent failure of a bearing, failure of the lever assembly, and subsequent loss of control of the helicopter. The Emergency AD requires, for those helicopters with lever assemblies that have less than 50 hours TIS, before further flight, inspecting each lever assembly, P/N 206-001-401-111, 206-001-400-115, 206-001-400-111, 407-001-320-105 or 407-001-320-109, to determine if the bearing, P/N 206-301-051-101, is correctly installed and properly staked in the lever assembly. Replacing any bearing that is incorrectly installed or improperly staked in the lever assembly is also required before further flight. The short compliance time involved is required because the previously described critical unsafe condition can adversely affect the structural integrity of the helicopter. Therefore, the actions previously described are required before further flight, and this AD must be issued immediately.

Since it was found that immediate corrective action was required, notice and opportunity for prior public comment thereon were impracticable and contrary to the public interest, and good cause existed to make the AD effective immediately by individual letters issued on March 19, 2009 to all known U.S. owners and operators of Bell Model 206A series, 206B series, 206L series, 407, and 427 helicopters. These conditions still exist, and the AD is hereby published in the Federal Register as an amendment to 14 CFR 39.13 to make it effective to all persons.

We estimate that this AD will affect 2,715 helicopters of U.S. registry. The required actions will take approximately 3 work hours per helicopter to accomplish at an average labor rate of $80 per work hour. Required parts will cost approximately $413 per helicopter. Based on these figures, we estimate the total cost impact of the AD on U.S. operators to be $1,772,895, assuming that each helicopter has a bearing that needs to be replaced.

Comments Invited

This AD is a final rule that involves requirements that affect flight safety and was not preceded by notice and an opportunity for public comment; however, we invite you to submit any written data, views, or arguments regarding this AD. Send your comments to an address listed under ADDRESSES. Include “Docket No. FAA-2009-0350; Directorate Identifier 2009-SW-07-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of our docket web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2009-07-52 Bell Helicopter Textron Canada Limited: Amendment 39-15885. Docket No. FAA-2009-0350, Directorate Identifier 2009-SW-07-AD. Supersedes AD 2009-07-51, Directorate Identifier 2009-SW-06-AD.

Applicability: Bell Model 206A series, 206B series, and 206L series helicopters with a cyclic control lever assembly (lever assembly), part number (P/N) 206-001-401-111, 206-001-400-115, or 206-001-400-111, with less than 50 hours time-in-service (TIS) and Model 407 and 427 helicopters with a lever assembly, P/N 407-001-320-105 or 407-001-320-109, with less than 50 hours TIS, certificated in any category.

Compliance: Required before further flight, unless accomplished previously.

To prevent failure of a bearing, failure of the lever assembly, and subsequent loss of control of the helicopter, do the following:

(a) Inspect the lever assembly and determine if the bearing, P/N 206-301-051-101, is correctly installed and properly staked in the lever assembly.

(b) Replace any bearing that is incorrectly installed or improperly staked in the lever assembly.

Note 1: Bell Alert Service Bulletin (ASB) No. 206-09-121 for the Model 206A and 206B series, No. 206L-09-155 for the Model 206L series, No. 407-09-85 for the Model 407, and No. 427-09-23, for the Model 427, pertain to the subject of this AD. All of the ASBs are dated March 10, 2009.

(c) To request a different method of compliance or a different compliance time for this AD, follow the procedures in 14 CFR 39.19. Contact the Manager, Safety Management Group, FAA, ATTN: Sharon Miles, Aviation Safety Engineer, Rotorcraft Directorate, Fort Worth, Texas 76193-0111, telephone (817) 222-5122, fax (817) 222-5961, for information about previously approved alternative methods of compliance.

(d) Special flight permits will not be issued.

(e) This amendment becomes effective on May 1, 2009, to all persons except those persons to whom it was made immediately effective by Emergency AD 2009-07-52, issued March 19, 2009, which contained the requirements of this amendment.

Note 2: The subject of this AD is addressed in Transport Canada AD CF-2009-10, dated March 12, 2009.

Issued in Fort Worth, Texas, on April 9, 2009.
Mark R. Schilling,
Acting Manager, Rotorcraft Directorate, Aircraft Certification Service.

[FR Doc. E9-8573 Filed 4-15-09; 8:45 am]

BILLING CODE 4910-13-P